LIBRARY OF CONGRESS

Copyright Office

37 CFR Parts 201 and 202

[Docket No. 2017-16]

Group Registration of Newspapers

AGENCY: U.S. Copyright Office, Library of Congress.

ACTION: Final rule.

SUMMARY: The U.S. Copyright Office is amending its regulation governing the group registration option for newspapers. Under the current regulation, applicants are required to upload a complete copy of each newspaper issue through the Office's electronic registration system. Applicants may also submit their newspaper issues on microfilm on a voluntary basis (in addition to and at the same time as submitting the required digital files), provided the microfilm is received by December 31, 2019. The microfilm option expires at the end of this year; therefore, today's final rule eliminates the reference to that option.

DATES: Effective January 1, 2020.

FOR FURTHER INFORMATION CONTACT: Regan A. Smith, General Counsel and Associate Register of Copyrights, or Robert J. Kasunic, Associate Register of Copyrights and Director of Registration Policy and Practice, or Erik Bertin, Deputy Director of Registration Policy and Practice, by email at regans@copyright.gov, rkas@copyright.gov, and ebertin@copyright.gov or by telephone at (202) 707-8350.

SUPPLEMENTARY INFORMATION: When Congress enacted the Copyright Act of 1976 (the “Act”), it authorized the Register of Copyrights to specify by regulation the administrative classes of works for the purpose of seeking a registration, and the nature of the deposits required for each such class. In addition, Congress granted the Register the discretion to allow groups of related works to be registered with one application and one filing fee. See 17 U.S.C. 408(c)(1). Congress cited “the various editions or issues of a daily newspaper” as a specific example of a “group of related works” that would be suitable for a group registration. H.R. Rep. No. 94-1476, at 153-54 (1976); S. Rep. No. 94-473, at 136 (1975).

On January 30, 2018, the Copyright Office (the “Office”) issued a final rule amending the regulation governing the group registration option for newspapers (“GRNP”). 83 FR 4144 (Jan. 30. 2018). The 2018 final rule modified the requirements for this group registration option in several respects, including the deposit requirements. Applicants are now required to upload their newspaper issues in digital form through the Office's electronic registration system. In addition, applicants may submit microfilm containing a complete copy of each issue on a voluntary basis, provided the Office receives the microfilm by December 31, 2019.

The Office made these changes to improve the efficiency of the registration system and encourage broader participation in the registration system by reducing the burden on applicants. To that end, the Office provided a one-year phase out period for microfilm deposits to give publishers time to develop quality assurance testing for their digital submissions.

These amendments went into effect on March 1, 2018. Since then, the number of microfilm submissions has steadily declined. For example, in March 2018 the Office received electronic deposits (without any microfilm) for 78% of the applications submitted under this group registration option. That number increased to 87% by the end of December 2018. The trend continued through July 2019, where digital deposit copies accounted for 92% of all GRNP applications. In fact, from May through July 2019 the Office received no microfilm submissions and compliance with the digital deposit requirement has been 100%.

The microfilm option will expire at the end of this year, and based on the submissions received since March 2018, the Office sees no need to extend the phase out period. Accordingly, the Office is amending its regulations to remove the reference to the microfilm option.

Because the updates are technical and non-substantive changes that do not “alter the rights or interests of parties,” they are not subject to the notice and comment requirements of the Administrative Procedure Act.¹ Furthermore, the Office finds good cause that providing notice and comment is “unnecessary” because the changed requirements and phase-out period were adopted in a previous public proceeding; this final rule merely removes related obsolete language.²

¹ See Nat'l Mining Ass'n v. McCarthy, 758 F.3d 243, 250 (D.C. Cir. 2014); 5 U.S.C. 553(b) (notice and comment not required for “interpretative rules, general statements of policy, or rules of agency organization, procedure, or practice”).

² See 5 U.S.C. 553(b).

List of Subjects

37 CFR Part 201

Copyright, General provisions.

37 CFR Part 202

Copyright, Preregistration and registration of claims to copyright.

Final Regulations

For the reasons set forth in the preamble, the Copyright Office amends 37 CFR parts 201 and 202 as follows:

PART 201—GENERAL PROVISIONS

1. The authority citation for part 201 continues to read as follows:

Authority: 17 U.S.C. 702.

§ 201.1 [Amended]

2. Amend § 201.1(c)(6) by removing “, and newspaper microfilm copies submitted under § 202.4(e) of this chapter,”.

PART 202—PREREGISTRATION AND REGISTRATION OF CLAIMS TO COPYRIGHT

3. The authority citation for part 202 continues to read as follows:

Authority: 17 U.S.C. 408(f), 702.

§ 202.4 [Amended]

4. Amend § 202.4 by removing paragraph (e)(6)(ii)(B) and redesignating paragraph (e)(6)(ii)(A) as paragraph (e)(6)(ii).

Dated: October 23, 2019.
Karyn A. Temple,
Register of Copyrights and Director of the U.S. Copyright Office.
Approved by:
Carla D. Hayden,
Librarian of Congress.

[FR Doc. 2019-24450 Filed 11-8-19; 8:45 am]

BILLING CODE 1410-30-P